FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—01/24/2005
20050469 | Owens Minor, Inc | Access Diabetic Supply, LLC | Access Diabetic Supply, LLC.
TRANSACTIONS GRANTED EARLY TERMINATION—01/26/2005
20050465 | Great Hill Equity Partners II, L.P | Stolberg, Meehan & Scano II, L.P | Central Security Group, Inc.
20050473 | Rayovac Corporation | Thomas H. Lee Equity Fund IV, L.P | United Industries Corporation.
20050474 | Thomas H. Lee Equity Fund IV, L.P | Rayovac Corporation | Rayovac Corporation.
TRANSACTIONS GRANTED EARLY TERMINATION—01/27/2005
20050466 | Eli Lilly and Company | AstraZeneca Plc | IPR Pharmaceuticals, Inc.
TRANSACTIONS GRANTED EARLY TERMINATION—01/28/2005
20050480 | TPG Partners III, L.P | Fidelity National Financial, Inc | Fidelity National Information Services, Inc.
20050481 | TPG Partners IV, L.P | Fidelity National Financial, Inc | Fidelity National Information Services, Inc.
20050482 | Thomas H. Lee Equity Fund V, L.P | Fidelity National Financial, Inc | Fidelity National Information Services, Inc.
20050490 | Gartner, Inc | META Group, Inc | META Group, Inc.
20050492 | Industrial Growth Partners II, L.P | Global Power Systems, L.L.C | Global Power Systems, L.L.C.
20050495 | A. Jerrold Perenchio | Raycom Media, Inc. | WLII/WSUR, Inc.
20050496 | Wind Point Partners V, L.P | Waterbury Companies Acquisition Corp. | Waterbury Companies Acquisition Corp.
20050498 | Navarre Corporation | FUNimation General Partnership | FUNimation Productions, Ltd.
20050501 | PacifiCare Health System, Inc | Pacific Mutual Holding Company | Pacific Life and Annuity Company.
|  |  | Pacific Life Insurance Company.
20050502 | The AES Corporation | Charles N. Daveport III | SeaWest Holdings, Inc.
20050505 | GTCR Fund VIII, L.P | Prestige Brands Holdings, Inc | Prestige Brands Holdings, Inc.
20050506 | GTCR Fund VII/B, L.P | Prestige Brands Holdings, Inc | Prestige Brands Holdings, Inc.
20050507 | Cooper Tire & Rubber Company | The Military Mutual Aid Association | Kumho Tire Co., Inc.
20050509 | Citigroup Inc | Beddor Enterprises, A Limited Partnership | Instant Web, Inc.
20050510 | Cooper Tire and Rubber Company | Kumho Industrial Co., Ltd | Kumho Tire Co., Inc.
20050511 | Warburg Pincus Private Equity VIII, LP | WP CAMP Holding Company | WP CAMP Holding Company.
20050512 | SI International Inc | Walter M. Curt | Shenandoah Electronic Intelligence, Inc.
20050514 | TCV V, L.P | Kristen Talley | Webroot Software, Inc.
20050515 | TCV V, L.P | Steve Thomas | Webroot Software, Inc.
20050517 | Fuji Photo Film Co., Ltd | Saratoga Partners IV, L.P | Sericol Group LImited.
20050523 | Verizon Communications Inc | Urban Communicators PCS Limited Partnership | Urban Comm-North Carolina, Inc.
20050529 | Concord Communications, Inc | Alec E. Gores | Aprisma Holdings, Inc.
20050531 | Mr. Remi Marcoux | Vincent F. Carosella | JDM, Inc.
20050532 | Dr. Rajendra Singh | Motient Corporation | Motient Corporation.
20050534 | Thomas J. Petters | J.P. Morgan Chase & Co | Polaroid Holding Company.
20050535 | CIT Group Inc | Education Lending Group, Inc. | Education Lending Group, Inc.
20050546 | Yell Group PLC | Richard Postma | U.S. Xchange Directors, L.L.C.
TRANSACTIONS GRANTED EARLY TERMINATION—02/01/2005
20050363 | Laboratory Corporation of America Holdings | U.S. Pathology Labs, Inc. | U.S. Pathology Labs, Inc.
TRANSACTIONS GRANTED EARLY TERMINATION—02/02/2005
20050508 | Harbour Group Investments IV, L.P | LN Holdings Corporation | LN Holdings Corporation.
20050513 | PNM Resources, Inc | SW Acquisition, L.P | TNP Enterprises, Inc.
20050519 | GTCR Fund VII-A, L.P | GTCR Fund VII, L.P | Syniverse Holdings, Inc.
TRANSACTIONS GRANTED EARLY TERMINATION—02/03/2005
20050438 | Hejoassu Adminstracao S.A. | Cemex, S.A. de C.V. | Cemex, S.A. de C.V.
TRANSACTIONS GRANTED EARLY TERMINATION—02/04/2005
20050327 | Transpro, Inc | Modine Manufacturing Company | Modine Aftermarket Holdings, Inc.
20050522 | VeriSign, Inc | LightSurf Technologies, Inc | LightSurf Technologies, Inc.
20050528 | Cerberus-Plasma Holdings, Inc | NPS Bio Therapeutics, Inc | NPS Bio Therapeutics, Inc.
20050537 | Noble Energy, Inc | Patina Oil & Gas Corporation | Patina Oil & Gas Corporation.
20050539 | JPMorgan Chase & Co | Vastera, Inc | Vastera, Inc.
20050540 | Caesars Entertainment, Inc | Caesars Entertainment, Inc | RDI/Caesars Riverboat Casino, LLC.
20050551 | Orkla ASA | Elkem ASA | Elkem ASA.

FOR FURTHER INFORMATION CONTACT: Sandra M. Peay, Contact Representative, or Renee Hallman, Case Management Assistant. Federal Trade Commission, Premerger Notification Office, Bureau of Competition, Room H-303, Washington, DC 20580. (202) 326-33100.

By direction of the Commission.
Donald S. Clark,
Secretary.

[FR Doc. 05-3780 Filed 2-25-05; 8:45 am]

BILLING CODE 6750-01-M